ENVIRONMENTAL PROTECTION AGENCY

[FRL-6726-7]

Agency Information Collection Activities; Submission for OMB Review; Comment Request; EPA ICR #1249.06

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Recordkeeping Requirements For Certified Applicators Using 1080 Collars For Livestock Protection, (EPA ICR No. 1249.06, OMB No. 2070-0074). The ICR, which is abstracted below and expires on June 30, 2000, describes the nature of the information collection and its estimated cost and burden. The Agency is requesting that OMB renew approval of the ICR for a three year period. The Federal Register document required under 5 CFR 1320.8(d), soliciting comments on this collection of information, published on December 29, 1999 (64 FR 73042). EPA received a single comment, which was considered in finalizing this ICR for submission to OMB.

DATES: Additional comments may be submitted on or before July 31, 2000.

FOR FURTHER INFORMATION CONTACT: Sandy Farmer by phone at 202-260-2740, or via e-mail at “farmer.sandy@epa.gov”, or using the address indicated below. Please refer to EPA ICR No. 1249.06. and OMB Control No. 2070-0074.

ADDRESSES: Send comments, referencing EPA ICR No. 1249.06 and OMB Control No. 2070-0074, to the following addresses: Ms. Sandy Farmer, U.S. Environmental Protection Agency, Collection Strategies Division (2822), 1200 Pennsylvania Avenue, NW., Washington, DC 20460; and to: Office of Information and Regulatory Affairs, Office of Management and Budget (OMB), Attention: Desk Officer for EPA, 725 17th Street, NW., Washington, DC 20503.

SUPPLEMENTARY INFORMATION: Review Requested: The Agency is requesting that OMB renew approval of this ICR for a three year period.

ICR Numbers: EPA ICR No. 1249.06 and OMB Control No. 2070-0074.

Current Expiration Date: June 30, 2000.

Title: Recordkeeping Requirements for Certified Applicators Using 1080 Collars for Livestock Protection.

Abstract: This ICR affects approximately 75 Certified Pesticide Applicators, who utilize 1080 toxic collars for livestock protection. Four states (Montana, New Mexico, South Dakota, and Wyoming) monitor the program, and five pesticide registrants are required to keep records of: (a) Number of collars purchased; (b) number of collars placed on livestock; (c) number of collars punctured or ruptured; (d) apparent cause of puncture or rupture; (e) number of collars lost or unrecovered; (f) number of collars in use and in storage; and (g) location and species data on each animal poisoned as an apparent result of the toxic collar.

Applicators maintain records, and the registrants/lead agencies do monitoring studies and submit the reports. These records are monitored by either the: (a) State lead agencies; (b) EPA regional offices; or (c) the registrants. The Environmental Protection Agency (EPA, the Agency) receives annual monitoring reports from registrants or State lead agencies. An agency may not conduct or sponsor, and a person is not required to respond to, a collection of information unless it displays a currently valid OMB control number. The OMB control numbers for EPA's regulations are listed in 40 CFR part 9 and 48 CFR Chapter 15.

Burden Statement: The data that certified Livestock Protection Collar applicators are required to record and maintain were outlined in the Initial Decision of the Administrative Law Judge in the 1080 Predacide Hearings. Pursuant to that decision, the EPA requires certified Livestock Protection Collar applicators to keep and report no records other than those prescribed by USE RESTRICTIONS 5 and 6. The ICR provides a detailed explanation of this estimate. The annual public burden for the Recordkeeping Requirements for Certified Applicators using 1080 Collars for Livestock Protection is estimated to average 40 hours per certified applicator, 77 hour per state, and 9 hours per registrant. The following is a summary of the estimates taken from the ICR:

Respondents/Affected Entities: Certified applicators, States and Registrants.

Estimated Total Number of Respondents: 84.

Frequency of Response: Annually.

Estimated total number of responses for each respondent: 1.

Estimated Total Annual Burden: 3,353.

Estimated Total Annualized Non-labor Costs: $0.

Changes in Burden Estimates: The Agency reduced its estimate of the number of certified applicators based on the number of annual participants during the past three years, and reduced the number of registrants because one registrant is no longer participating in the program. This resulted in a total adjustment in the total burden of -3,086 burden hours.

According to the procedures prescribed in 5 CFR 1320.12, EPA has submitted this ICR to OMB for review and approval. Any comments related to the renewal of this ICR should be submitted within 30 days of this document, as described above.

Dated: June 20, 2000.
Oscar Morales,
Director, Collection Strategies Division.

[FR Doc. 00-16519 Filed 6-28-00; 8:45 am]

BILLING CODE 6560-50-P